DEPARTMENT OF THE INTERIOR

Minerals Management Service

Preparation of an Environmental Assessment (EA) for Proposed Outer Continental Shelf (OCS) Oil and Gas Lease Sale 207 in the Western Gulf of Mexico (GOM) Planning Area (2008)

AGENCY: Minerals Management Service (MMS), Interior.

ACTION: Preparation of an Environmental Assessment (EA).

SUMMARY: The MMS is issuing this notice to advise the public, pursuant to the National Environmental Policy Act of 1969 (NEPA), as amended, 42 U.S.C. 4321 et seq., that MMS intends to prepare an EA for proposed OCS Oil and Gas Lease Sale 207 in the Western GOM Planning Area (Lease Sale 207) scheduled for August 2008. The MMS is issuing this notice to facilitate public involvement. The preparation of this EA is an important step in the decision process for Lease Sale 207. The proposal for Lease Sale 207 was identified by the Call for Information and Nominations published in the Federal Register on April 28, 2006, and was analyzed in the Gulf of Mexico OCS Oil and Gas Lease Sales: 2007-2012; Western Planning Area Sales 204, 207, 210, 215, and 218; Central Planning Area Sales 205, 206, 208, 213, 216, and 222—Final Environmental Impact Statement; Volumes I and II (Multisale Environmental Impact Statement (EIS), OCS EIS/EA MMS 2007-018). This EA for proposed Lease Sale 207 will reexamine the potential environmental effects of the proposed lease sale and its alternatives (excluding the unleased blocks near biologically sensitive topographic features, use of a nomination and tract selection leasing system, and no action) based on any new information regarding potential impacts and issues that were not available at the time the Multisale EIS was prepared.

FOR FURTHER INFORMATION CONTACT: Mr. Dennis Chew, Minerals Management Service, Gulf of Mexico OCS Region, 1201 Elmwood Park Boulevard, Mail Stop 5410, New Orleans, Louisiana 70123-2394. You may also contact Mr. Chew by telephone at (504) 736-2793.

SUPPLEMENTARY INFORMATION: In April 2007, the MMS published a Multisale EIS that addressed 11 proposed Federal actions that would offer for lease areas on the GOM OCS that may contain economically recoverable oil and gas resources. Federal regulations allow for several related or similar proposals to be analyzed in one EIS (40 CFR 1502.4). Since each proposed lease sale and its projected activities are very similar each year for each planning area, a single EIS was prepared for the 11 Western Planning Area (WPA) and Central Planning Area (CPA) lease sales scheduled in the proposed OCS Oil and Gas Leasing Program: 2007-2012 (5-Year Program). The Multisale EIS addressed WPA Lease Sale 204 in 2007, Sale 207 in 2008, Sale 210 in 2009, Sale 215 in 2010, and Sale 218 in 2011; and CPA Lease Sale 205 in 2007, Sale 206 in 2008, Sale 208 in 2009, Sale 213 in 2010, Sale 216 in 2011, and Sale 222 in 2012. Although the Multisale EIS addresses 11 proposed lease sales, at the completion of the EIS process, Records of Decision were published in July and August 2007 for only proposed WPA Lease Sale 204 and proposed CPA Lease Sale 205, respectively. Prior to each of the nine subsequent proposed lease sales, including Lease Sale 207, an additional NEPA review (an EA) will be conducted to address any new information relevant to that proposed lease sale. After completion of the EA, the MMS will determine whether to prepare a Finding of No New Significant Impact (FONNSI) or a Supplemental EIS. The MMS prepares a Consistency Determination (CD) to determine whether the lease sale is consistent with each affected state's federally-approved coastal zone management program. Finally, the MMS will solicit comments via the Proposed Notice of Sale (PNOS) from the governors of the affected states on the size, timing, and location of the lease sale. The tentative schedule for the prelease decision process for Lease Sale 207 is as follows: EA/FONNSI or Supplemental EIS decision, March 2008; CD's sent to affected states, March 2008; PNOS sent to governors of the affected states, March 2008; Final Notice of Sale published in the Federal Register, July 2008; and Lease Sale 207, August 2008.

Public Comments: Interested parties are requested to send within 30 days of this Notice's publication, comments regarding any new information or issues that should be addressed in the EA. Comments may be submitted in one of the following two ways:

1. In written form enclosed in an envelope labeled “Comments on WPA Lease Sale 207 EA” and mailed (or hand-carried) to the Regional Supervisor, Leasing and Environment (Mail Stop 5410), Minerals Management Service, Gulf of Mexico OCS Region, 1201 Elmwood Park Boulevard, New Orleans, Louisiana 70123-2394.

2. Electronically to the MMS e-mail address: http://www.environment@mms.gov.

To obtain single copies of the Multisale EIS, you may contact the Minerals Management Service, Gulf of Mexico OCS Region, Attention: Public Information Office (Mail Stop 5034), 1201 Elmwood Park Boulevard, Room 114, New Orleans, Louisiana 70123-2394 (1-800-200-GULF). You may also view the Multisale EIS or check the list of libraries that have copies of the Multisale EIS on the MMS Web site at http://www.gomr.mms.gov.

Dated: November 9, 2007.
Chris C. Oynes,
Associate Director for Offshore Minerals Management.

[FR Doc. E7-23332 Filed 11-30-07; 8:45 am]

BILLING CODE 4310-MR-P